DEPARTMENT OF ENERGY

Federal Energy Regulatory Commission

18 CFR Parts 33, 40, 45, 153, 157, 340-347, 380

[Docket No. AD12-6-002]

Retrospective Analysis of Existing Rules; Notice of Staff Memorandum

Take notice that the Commission staff is issuing a memorandum setting forth certain proposed revisions to the Commission's regulations affecting interlocking directorates, seismic data requirements for liquefied natural gas facilities, and oil pipeline rates. The memorandum is being issued pursuant to the November 8, 2011 Plan for Retrospective Analysis of Existing Rules prepared in response to Executive Order 13579, which requested independent regulatory agencies issue plans for periodic retrospective analysis of their existing regulations.

The Staff Memorandum is being placed in the record in the above-referenced administrative docket. The Staff Memorandum will also be available on the Commission's Web site at http://www.ferc.gov.

Comments on the Staff Memorandum should be filed within 30 days of the issuance of this Notice. The Commission encourages electronic submission of comments in lieu of paper using the “eFiling” link at http://www.ferc.gov. Persons unable to file electronically should submit an original of the comment to the Federal Energy Regulatory Commission, 888 First Street NE., Washington, DC 20426.

All filings in this docket are accessible on-line at http://www.ferc.gov, using the “eLibrary” link. There is an “eSubscription” link on the Web site that enables subscribers to receive email notification when a document is added to a subscribed docket. For assistance with any FERC Online service, please email FERCOnlineSupport@ferc.gov, or call (866) 208-3676 (toll free). For TTY, call (202) 502-8659.

Questions regarding this Notice should be directed to: Kenneth Yu, Office of the General Counsel, Federal Energy Regulatory Commission, 888 First Street NE., Washington, DC 20426, 202-502-8482, Kenneth.Yu@ferc.gov.

Dated: October 28, 2016.
Nathaniel J. Davis, Sr.,
Deputy Secretary.

[FR Doc. 2016-26539 Filed 11-2-16; 8:45 am]

BILLING CODE 6717-01-P